DEPARTMENT OF ENERGY

Federal Energy Regulatory Commission

Combined Notice of Filings

Take notice that the Commission has received the following Natural Gas Pipeline Rate and Refund Report filings:

Docket Numbers: RP21—934-000.

Applicants: Equitrans, L.P.

Description: § 4(d) Rate Filing: Negotiated Rate Capacity Release Agreements—7/1/2021 to be effective 7/1/2021.

Filed Date: 7/1/21.

Accession Number: 20210701-5000.

Comments Due: 5 p.m. ET 7/13/21.

Docket Numbers: RP21-935-000.

Applicants: Alliance Pipeline L.P.

Description: § 4(d) Rate Filing: Negotiated Rates—Various July 1 Capacity Releases to be effective 7/1/2021.

Filed Date: 7/1/21.

Accession Number: 20210701-5001.

Comments Due: 5 p.m. ET 7/13/21.

Docket Numbers: RP21-936-000.

Applicants: Rover Pipeline LLC.

Description: § 4(d) Rate Filing: Summary of Negotiated Rate Capacity Release Agreements on 7-1-21 to be effective 7/1/2021.

Filed Date: 7/1/21.

Accession Number: 20210701-5009.

Comments Due: 5 p.m. ET 7/13/21.

Docket Numbers: RP21-937-000.

Applicants: Sea Robin Pipeline Company, LLC.

Description: § 4(d) Rate Filing: Update Flowthrough Crediting Mechanism to be effective 8/1/2021.

Filed Date: 7/1/21.

Accession Number: 20210701-5023.

Comments Due: 5 p.m. ET 7/13/21.

Docket Numbers: RP21-938-000.

Applicants: WTG Hugoton, LP.

Description: § 4(d) Rate Filing: Annual Fuel Retention Percentage Filing 2021-2022 to be effective 8/1/2021.

Filed Date: 7/1/21.

Accession Number: 20210701-5038.

Comments Due: 5 p.m. ET 7/13/21.

Docket Numbers: RP21-939-000.

Applicants: Algonquin Gas Transmission, LLC.

Description: § 4(d) Rate Filing: Negotiated Rates—Various Releases eff 7-1-2021 to be effective 7/1/2021.

Filed Date: 7/1/21.

Accession Number: 20210701-5048.

Comments Due: 5 p.m. ET 7/13/21.

Docket Numbers: RP21-940-000.

Applicants: Maritimes & Northeast Pipeline, L.L.C.

Description: § 4(d) Rate Filing: Negotiated Rates—Various Releases eff 7-1-2021 to be effective 7/1/2021.

Filed Date: 7/1/21.

Accession Number: 20210701-5053.

Comments Due: 5 p.m. ET 7/13/21.

Docket Numbers: RP21-941-000.

Applicants: Nautilus Pipeline Company, L.L.C.

Description: § 4(d) Rate Filing: Negotiated Rate—Talos ERT 630204 eff 7-1-2021 to be effective 7/1/2021.

Filed Date: 7/1/21.

Accession Number: 20210701-5084.

Comments Due: 5 p.m. ET 7/13/21.

Docket Numbers: RP21-942-000.

Applicants: West Texas Gas, Inc.

Description: Annual Purchased Gas Cost Reconciliation Report of West Texas Gas, Inc. under RP21-942.

Filed Date: 7/1/21.

Accession Number: 20210701-5137.

Comments Due: 5 p.m. ET 7/13/21.

Docket Numbers: RP21-943-000.

Applicants: NEXUS Gas Transmission, LLC.

Description: § 4(d) Rate Filing: Negotiated Rates—Various Releases eff 07-01-2021 to be effective 7/1/2021.

Filed Date: 7/1/21.

Accession Number: 20210701-5138.

Comments Due: 5 p.m. ET 7/13/21.

Docket Numbers: RP21-944-000.

Applicants: Texas Eastern Transmission, LP.

Description: § 4(d) Rate Filing: Negotiated Rates—Release eff 07-01-2021 to be effective 7/1/2021.

Filed Date: 7/1/21.

Accession Number: 20210701-5141.

Comments Due: 5 p.m. ET 7/13/21.

Docket Numbers: RP21-945-000.

Applicants: Pine Needle LNG Company, LLC.

Description: § 4(d) Rate Filing: Clean-Up Filing_2021_Title Page to be effective 8/1/2021.

Filed Date: 7/1/21.

Accession Number: 20210701-5165.

Comments Due: 5 p.m. ET 7/13/21.

Docket Numbers: RP21-946-000.

Applicants: El Paso Natural Gas Company, L.L.C.

Description: § 4(d) Rate Filing: Negotiated Rate Agreements Update (Devon) to be effective 7/1/2021.

Filed Date: 7/1/21.

Accession Number: 20210701-5166.

Comments Due: 5 p.m. ET 7/13/21.

Docket Numbers: RP21-947-000.

Applicants: Transcontinental Gas Pipe Line Company, LLC.

Description: § 4(d) Rate Filing: Clean-Up Filing_2021_Title Page to be effective 8/1/2021.

Filed Date: 7/1/21.

Accession Number: 20210701-5168.

Comments Due: 5 p.m. ET 7/13/21.

Docket Numbers: RP21-948-000.

Applicants: Transcontinental Gas Pipe Line Company, LLC.

Description: § 4(d) Rate Filing: Clean-Up Filing_2021_Title Page to be effective 8/1/2021.

Filed Date: 7/1/21.

Accession Number: 20210701-5169.

Comments Due: 5 p.m. ET 7/13/21.

Docket Numbers: RP21-949-000.

Applicants: LA Storage, LLC.

Description: § 4(d) Rate Filing: Filing of Negotiated Rate, Conforming IW Agreements 7.1.21 to be effective 7/1/2021.

Filed Date: 7/1/21.

Accession Number: 20210701-5174.

Comments Due: 5 p.m. ET 7/13/21.

Docket Numbers: RP21-950-000.

Applicants: Gulf South Pipeline Company, LLC.

Description: § 4(d) Rate Filing: Cap Rel Neg Rate Agmts (Marathon 51753 to Spire 54175) to be effective 7/1/2021.

Filed Date: 7/1/21.

Accession Number: 20210701-5207.

Comments Due: 5 p.m. ET 7/13/21.

Docket Numbers: RP21-951-000.

Applicants: Tennessee Gas Pipeline Company, LLC.

Description: § 4(d) Rate Filing: Volume No. 2—McGlobal Gas Corporation SP331391 & SP326294 to be effective 8/1/2021.

Filed Date: 7/1/21.

Accession Number: 20210701-5258.

Comments Due: 5 p.m. ET 7/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2021.
Debbie-Anne A. Reese,
Deputy Secretary.

[FR Doc. 2021-14761 Filed 7-9-21; 8:45 am]

BILLING CODE 6717-01-P